DEPARTMENT OF THE INTERIOR

Fish and Wildlife Service

[Docket No. FWS-R8-ES-2022-0143; FXES11140800000-234-FF08ECAR00]

Endangered and Threatened Wildlife and Plants; Incidental Take Permit Application; Proposed Habitat Conservation Plan Amendment for the Multiple Species Conservation Program County of San Diego Subarea Plan, County of San Diego, California

AGENCY: Fish and Wildlife Service, Interior.

ACTION: Notice of availability; request for comments.

SUMMARY: We, the U.S. Fish and Wildlife Service (Service), have received an application to amend the incidental take permit (PRT-840414) issued for the existing Multiple Species Conservation Program County of San Diego Subarea Plan (MSCP Subarea Plan). The County of San Diego (Applicant) has requested an amendment to the incidental take permit. The amendment would modify the MSCP Subarea Plan boundary to add approximately 77 acres of land solely for conservation purposes. If amended, no additional incidental take will be authorized. The Applicant will follow all other existing habitat conservation plan conditions. We also announce a public comment period. We invite comments from the public and Federal, Tribal, State, and local governments.

DATES: To ensure consideration, please send your written comments by January 27, 2023.

ADDRESSES:

Obtaining Documents: Electronic copies of the documents this notice announces, along with public comments received, will be available online in Docket No. FWS-R8-ES-2022-0143 at https://www.regulations.gov.

Submitting Comments: You may submit comments by one of the following methods:

• Email: fw8cfwocomments@fws.gov. Please include “MSCP Subarea Plan Boundary Line Amendment” at the beginning of your comments.

• U.S. mail: Assistant Field Supervisor; Carlsbad Fish and Wildlife Office; U.S. Fish and Wildlife Service; 2177 Salk Avenue, Suite 250; Carlsbad, CA 92008.

FOR FURTHER INFORMATION CONTACT: Mr. Jonathan Snyder, Assistant Field Supervisor, Carlsbad Fish and Wildlife Office (see ADDRESSES); telephone: 760-431-9440, email at jonathan_d_snyder@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service (Service), have received an application from the County of San Diego to amend the incidental take permit (PRT-840414) issued for the existing Multiple Species Conservation Program County of San Diego Subarea Plan (MSCP Subarea Plan). We also announce a public comment period. We invite comments from the public and Federal, Tribal, State, and local governments.

We have made a preliminary determination that amendment of the permit is neither a major Federal action that will significantly affect the quality of the human environment within the meaning of section 102(2)(C) of the National Environmental Policy Act (NEPA; 42 U.S.C. 4321 et seq.), nor will it individually or cumulatively have more than a negligible effect on the species covered in the MSCP Subarea Plan. Therefore, the permit amendment qualifies as a categorical exclusion under NEPA as provided by the Department of the Interior Manual (516 DM 8.5(C)(2)).

Background

On March 17, 1998, the Service issued an incidental take permit (PRT-840414), pursuant to section 10(a)(1)(B) of the Endangered Species Act (16 U.S.C. 1531 et seq.), for 85 species covered by the MSCP Subarea Plan. The MSCP Subarea Plan boundary encompasses 252,132 ac of unincorporated land in south San Diego County, California. Opportunity for public review of the original permit application and the habitat conservation plan was provided in the Federal Register on March 28, 1997 (62 FR 14938) and November 14, 1997 (62 FR 61140).

The applicant is seeking an amendment to their incidental take permit, consistent with section 1.14.2 of the MSCP Subarea Plan Implementing Agreement, to modify the MSCP Subarea Plan boundary to add 77.02 acres of land for conservation purposes (i.e., a “hardline preserve”) to be used as mitigation for projects impacting non-native grassland.

The conservation lands are in an unincorporated portion of northern San Diego County in the community of Ramona, approximately 0.5 mile north of the existing MSCP Subarea Plan boundary. The conservation land consists of four parcels (Assessor's Parcel Numbers 283-055-28-00, 283-055-29-00, 283-055-30-00, 283-055-31-00, and 283-055-31-00) located northeast of the intersection of Highland Valley and Dye roads, south of State Route 67 (SR-67), and west of Etcheverry Street. The parcels support vernal pool, southern willow scrub, freshwater marsh, and nonnative grassland vegetation communities, which include potential habitat for the federally listed endangered San Diego fairy shrimp (Branchinecta sandiegonensis) and the burrowing owl (Athene cunicularia), both MSCP Subarea Plan covered species. More details on the specific parcels and their locations are available in the permit amendment application (see ADDRESSES).

Public Comments

If you wish to comment on the permit application, proposed HCP amendment, and associated documents, you may submit comments by any of the methods noted in the ADDRESSES section.

Public Availability of Comments

Written comments we receive become part of the public record associated with this action. Before including your address, phone number, email address, or other personal identifying information in your comments, you should be aware that your entire comment—including your personal identifying information—may be made publicly available at any time. While you can ask us in your comment to withhold your personal identifying information from public review, we cannot guarantee that we will be able to do so.

Authority

We provide this notice under section 10(c) of the Endangered Species Act (16 U.S.C. 1531 et seq.) and National Environmental Policy Act regulations (40 CFR 1506.6).

Scott Sobiech,
Field Supervisor, Carlsbad Fish and Wildlife Office, Carlsbad, California.

[FR Doc. 2022-28226 Filed 12-27-22; 8:45 am]

BILLING CODE 4333-15-P